DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Date and Time: June 5, 2013 (10:00 a.m.-4:00 p.m.).

Place: Health Resources and Services Administration, Department of Health and Human Services, 5600 Fishers Lane, Rockville, Maryland 20852, Room 9-94.

Status: The meeting will be open to the public.

Purpose: The members of the ACICBL will discuss the legislatively mandated 13th Annual Report to the Secretary of Health and Human Services and Congress tentatively titled Transforming interprofessional health education and practice: moving learners from the campus to the community to enhance population health. The meeting will afford committee members with the opportunity to revise recommendations and discuss population health, interprofessional education, care and competencies, cost effectiveness, best practices, and the like to develop the 13th report.

Agenda: The ACICBL agenda includes an overview of the Committee's general business activities and discussion sessions specific for the development of the 13th Annual ACICBL Report. The agenda will be available two days prior to the meeting on the HRSA Web site (http://www.hrsa.gov/advisorycommittees/bhpradvisory/acicbl/acicbl.html). Agenda items are subject to change as priorities dictate.

SUPPLEMENTARY INFORMATION: Members of the public and interested parties may request to provide comments or attend the meeting via webinar by emailing their first name, last name and full email address to BHPRAdvisoryCommittee@hrsa.gov or by contacting Ms. Crystal Straughn at 301-443-3594. Access is by reservation only. The logistical challenges of scheduling this meeting hindered an earlier publication of this meeting notice.

FOR FURTHER INFORMATION CONTACT: Anyone requesting information regarding the ACICBL should contact Dr. Joan Weiss, Designated Federal Official within the Bureau of Health Professions, Health Resources and Services Administration, in one of three ways: (1) send a request to the following address: Dr. Joan Weiss, Designated Federal Official, Bureau of Health Professions, Health Resources and Services Administration, Parklawn Building, Room 9C-05, 5600 Fishers Lane, Rockville, Maryland 20857; (2) call (301) 443-6950; or (3) send an email to jweiss@hrsa.gov.

Dated: May 22, 2013.
Bahar Niakan,
Director, Division of Policy and Information Coordination.

[FR Doc. 2013-12760 Filed 5-29-13; 8:45 am]

BILLING CODE 4165-15-P